DEPARTMENT OF TRANSPORTATION

Federal Aviation Administration

14 CFR Part 71

[Docket No. FAA-2002-13817; Airspace Docket No. 02-AGL-09]

Modification of Class E Airspace; Indianapolis, IN

AGENCY: Federal Aviation Administration (FAA), DOT.

ACTION: Final rule.

SUMMARY: This action modifies Class E airspace at Indianapolis, IN, Area Navigation (RNAV) Standard Instrument Approach Procedures (SIAPs) to several Runways (RWYS) have been developed for Indianapolis International Airport. Controlled airspace extending upward from 700 feet or more above the surface of the earth is needed to contain aircraft executing these approaches. This action increases the area of existing controlled airspace at Indianapolis International Airport.

EFFECTIVE DATE: 0901 UTC, January 23, 2003.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, August 16, 2002, the FAA proposed to amend 14 CFR part 71 to modify Class E airspace at Indianapolis, IN (67 FR 53531). The proposal was to modify existing Class E airspace at Indianapolis International Airport, IN, in order to protect for several new RNAV SIAPs.

Interested parties were invited to participate in this rulemaking proceeding by submitting written comments on the proposal to the FAA. No comments objecting to the proposal were received. Class E airspace areas extending upward from 700 feet or more above the surface of the earth are published in paragraph 6005 of FAA Order 7400.9K dated August 30, 2002, and effective September 16, 2002, which is incorporated by reference in 14 CFR 71.1. The Class E designations listed in this document will be published subsequently in the Order.

The Rule

This amendment to 14 CFR part 71 modifies Class E airspace at Indianapolis, IN, for Indianapolis International Airport. Controlled airspace extending upward from 700 feet or more above the surface of the earth is needed to contain aircraft executing instrument approach procedures. The area will be depicted on appropriate aeronautical charts.

The FAA has determined that this regulation only involves an establishment body of technical regulations for which frequent and routine amendments are necessary to keep them operationally current. Therefore this, regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

Accordingly, pursuant to the authority delegated to me, the Federal Aviation Administration amends 14 CFR part 71 as follows:

PART 71—DESIGNATION OF CLASS A, CLASS B, CLASS C, CLASS D, CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389

§ 71.1 [Amended]

2. The incorporation by reference in 14 CFR 71.1 of the Federal Aviation Administration Order 7400.9K, Airspace Designations and Reporting Points, dated August 30, 2002, and effective September 16, 2002, is amended as follows:

* * * * *

Paragraph 6005 Class E airspace areas extending upward from 700 feet or more above the surface of the earth.

* * * * *

AGL IN E5 Indianapolis, IN [Revised]

Indianapolis International Airport, IN

(Lat. 39° 43′ 02″N., long. 86° 17′ 40″W.)

Indianapolis, Greenwood Municipal Airport, IN

(Lat. 39° 37′ 42″, long. 86° 05′ 16″W.)

Indianapolis, Eagle Creek Airpark, IN

(Lat. 39° 49′ 51″N., long. 86° 17′ 40″W.)

Indianapolis, Eagle Creek Airpark, IN

(Lat. 39° 49′ 51″N., long. 86° 17′ 40″W.)

Indianapolis, Helicopter VOR/DME 287° Approach Point in Space

(Lat. 39° 42′ 12″ long. 86° 06′ 28″W.)

Brickyard VORTAC

(Lat. 39° 48′ 53″N., long. 86° 22′ 03″W.)

That airspace extending upward from 700 feet above the surface within a 7-mile radius of the Greenwood Municipal Airport, within a 6.3-mile radius of Eagle Creek Airpark, and within 2.6 miles each side of the Brickyard VORTAC 257° radial, extending from the 6.3-mile radius of the Eagle Creek Airpark and the 7.4-mile radius of the Indianapolis International Airport to 7-miles west of the VORTAC, and within a 6-mile radius of the Point in space serving the helicopter VOR/DME 287° approach.

* * * * *

Issued in Des Plaines, Illinois on November 13, 2002.
Richard K. Petersen,
Assistant Manager, Air Traffic Division, Great Lakes Region.

[FR Doc. 02-29899 Filed 11-22-02; 8:45 am]

BILLING CODE 4910-13-M